DEPARTMENT OF TRANSPORTATION

Federal Aviation Administration

14 CFR Part 71

[Docket No. FAA-2003-14402; Airspace Docket No. 01-AWA-4]

RIN 2120-AA66

Proposed Modification of the Houston Class B Airspace Area; TX

AGENCY: Federal Aviation Administration (FAA), DOT.

ACTION: Notice of proposed rulemaking (NPRM).

SUMMARY: This action proposes to modify the current Houston, TX, Class B airspace area to contain large turbine-powered aircraft during operations to the new Runway 8L/26R at George Bush Intercontinental Airport (IAH), and to the new primary runway (Runway 4) at William P. Hobby Airport (HOU). The FAA is proposing this action to enhance safety, and improve the management of aircraft operations in the Houston terminal area. Further, this effort supports the FAA's national airspace redesign goal of optimizing terminal and en route airspace areas to reduce aircraft delays and improve system capacity.

DATES: Comments must be received on or before June 2, 2003.

ADDRESSES: Send comments on this proposal to the Docket Management System, U.S. Department of Transportation, Room Plaza 401, 400 Seventh Street, SW., Washington, DC 20590-0001. You must identify both docket numbers, FAA-2003-14402/Airspace Docket No. 01-AWA-4, at the beginning of your comments.

You may also submit comments on the Internet at http://dms.dot.gov. You may review the public docket containing the proposal, any comments received, and any final disposition in person in the Dockets Office between 9 a.m. and 5 p.m., Monday through Friday, except Federal holidays. The Dockets Office (telephone 1-800-647-5527) is on the plaza level of the Department of Transportation NASSIF Building at the above address.

An informal docket may also be examined during normal business hours at the office of the Regional Air Traffic Division, Federal Aviation Administration, 2601 Meacham Boulevard, Fort Worth, TX 76193.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket Nos. FAA-2003-14402/Airspace Docket No. 01-AWA-4.” The postcard will be date/time stamped and returned to the commenter. All communications received on or before the specified closing date for comments will be considered before taking action on the proposed rule. The proposal contained in this notice may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Superintendent of Documents Web page at http://www.access.gpo.gov/nara.

Additionally, any person may also obtain a copy of this notice by submitting a request to the FAA, Office of Air Traffic Airspace Management, ATA-400, 800 Independence Avenue, SW., Washington, DC 20591, or by calling (202) 267-8783. Communications must identify both docket numbers for this notice. Persons interested in being placed on a mailing list for future NPRM's should call the FAA's Office of Rulemaking, (202) 267-9677, for a copy of Advisory Circular No. 11-2A, Notice of Proposed Rulemaking Distribution System, which describes the application procedure.

Background

On April 13, 2000, the FAA published a final rule modifying the Houston, TX, Class B airspace area (65 FR 19826). The modified Class B airspace area, implemented on June 15, 2000, eliminated references to the Hobby Very High Frequency Omnidirectional Range/Distance Measuring Equipment (VOR/DME) as the point of origin and made the new point of origin the current geographical location of the Hobby VOR.

The Houston terminal area has experienced a significant growth in aircraft operations in the last 10 years. To accommodate this growth, the City of Houston is scheduled to complete construction of the new Runway 8L/26R for IAH in October 2003. Additionally, the flow of aircraft operations at HOU will be adjusted to use Runway 4 as the primary runway. To provide protection for operations to the new runway at IAH and the planned traffic flow adjustments at HOU, the FAA has developed the proposed modifications to the Houston Class B airspace area.

Public Input

In June 2002, an ad hoc committee was formed to provide comments and recommendations regarding the planned modifications to the Houston Class B airspace area. Details were provided to the ad hoc committee regarding planned airspace changes required to conduct triple simultaneous approaches to IAH using the new Runway 8L/26R and the need to adjust the flow of aircraft operations at HOU. The Aircraft Owners and Pilots Association (AOPA) participated in the ad hoc committee and suggested developing visual flight rule (VFR) flyways to help pilots transition the Houston terminal area while remaining clear of the Houston Class B airspace area. Additionally, AOPA suggested the FAA solicit input from representatives from the military, Weiser Airpark, and West Houston Airport. These groups and numerous other user groups were contacted for their input and the suggestion to include VFR flyways was incorporated into a presentation for public meetings. Additionally, AOPA's flyway comment will be addressed later in this document.

As announced in the FAA Southwest Region Airspace Branch letter to Airmen 02-02, three pre-NPRM informal airspace meetings were held on October 15 at Fletcher Aviation on HOU; October 16 at North Harris College; and October 22 at West Houston Airport. These meetings allowed interested airspace users an opportunity to present their views and offer suggestions regarding the planned modifications to the Houston Class B airspace area. All comments received during the informal airspace meetings and the subsequent comment period were considered in developing this proposal.

Analysis of Comments Received

Twelve commenters expressed a concern that the planned expansion of Area B and Area C of the Class B airspace area would compress general aviation traffic into lower altitudes, or would cause general aviation aircraft to fly further east or west of IAH to remain clear of the Class B airspace. The FAA partially agrees with these comments. To remain clear of the Houston Class B airspace area, aircraft would have to fly at lower altitudes or fly further east or west of IAH; however, this is necessary to separate them from large turbine-powered aircraft conducting instrument approaches within the Houston Class B airspace area. Aircraft conducting simultaneous, parallel approaches may not be assigned the same altitude during turn-on to the final approach course. Therefore, each aircraft being turned on to the triple, simultaneous final approach courses will be assigned altitudes that differ by a minimum of 1,000 feet. In order to accommodate increased aircraft operations, the Houston Class B airspace area must be modified to provide additional altitudes in the lower stratum to the east and west of IAH.

Six commenters stated that aircraft from satellite airports west of Houston would have to travel significantly further than they presently do to get to practice areas. The FAA does not agree with these commenters. The FAA estimates that these aircraft would only have to fly approximately five additional nautical miles (NM) to remain clear of the Houston Class B airspace area. The planned modifications should not significantly increase the cost to pilots who wish to conduct practice maneuvers clear of the planned areas of the Houston Class B airspace area.

Four commenters stated that the FAA should use additional prominent landmarks instead of radials to describe the boundaries of the Class B airspace area. Specifically, it was suggested that the west boundary of Area C (southwest of HOU) could be described by using Highway 59 instead of radials and DME's from the Point Of Origin at HOU. This suggestion would increase the size of the Houston Class B airspace area approximately three NM and overlie the Sugar Land Airport Class D airspace area to the southeast. After consideration by FAA and users in the Sugar Land area, it was determined that additional restrictions to users would be created with minimal benefit. Additionally, the availability of prominent landmarks in the Houston Class B airspace area is minimal. Therefore, this suggestion is not being incorporated into the proposal. The current and planned boundary descriptions consist of a combination of prominent landmarks, latitude/longitude coordinates, and radials/arcs from the Humble VORTAC and the Point of Origin. The FAA believes that this mix of descriptors effectively assists pilots in identifying the lateral boundaries of the Houston Class B airspace area.

One commenter recommended that the FAA establish a VFR corridor directly above IAH to aid VFR aircraft transiting the Houston area. The FAA does not agree with the recommendation to establish a VFR corridor. The establishment of a corridor would reduce the efficiency of managing aircraft operations in the Houston Class B airspace area. The airspace over and between IAH and HOU is the busiest area due to aircraft departing and arriving IAH and HOU. Adding additional complexity to this area would not be in the best interest of safety or management of aircraft operations.

One commenter suggested developing north-south VFR flyways to the east and west of IAH to help pilots transition the Houston terminal area while remaining clear of the Houston Class B airspace area. Since the inception of the Houston Class B airspace area, several low altitude VFR transition routes have been published on the reverse side of the Houston VFR terminal area chart to assist pilots.

Four commenters expressed concern with the planned VFR flyway west of the airport because the area is already heavily traveled by VFR aircraft arriving and departing the busy west satellite airports. These commenters felt that the flyway would encourage pilots to fly in an already congested area and would not enhance safety or expedite travel. The FAA has withdrawn its plan for a north-south VFR flyway to the west of IAH. If the proposed modifications are implemented, most of the existing flyways remain the same except for adjustments to the suggested altitudes in Area C and Area D, to the east and west of IAH.

Notwithstanding the proposed modifications in this notice, we will continue to work with affected users to develop new and/or modify current flyways to assist in navigating in this busy terminal area.

The Proposal

The FAA is proposing an amendment to part 71 of the Federal Aviation Regulations (14 CFR part 71) to modify the Houston Class B airspace area. Specifically, this action (depicted in the attached chart) proposes to expand the lateral limits of Area A to the east of IAH; expand the lateral limits of Area B to the east and west of IAH; expand the lateral limits of Area C to the east and west of IAH and to the southwest of HOU; and expand the lateral limits of Area D to the southwest of HOU to improve the containment of turbo-jet aircraft operating within the Houston Class B airspace area.

Area A. The FAA proposes to modify Area A by expanding the boundary of Area A to the northeast of IAH. This modification would incorporate into Area A, one segment of the Class B airspace that is currently contained within Area B. Specifically, to the northeast of IAH, the FAA proposes to extend Area A to the north incorporating that part of Area B airspace that lies to the east on the extended instrument landing system (ILS) localizer course for Runway 26R, between the IAH 8 and 10 NM arcs. The effect of extending Area A as described would be to lower the floor of the Class B airspace in the affected segment from the current 2,000 feet mean sea level (MSL) to the surface. The reason for this change is to provide additional airspace needed to ensure that aircraft on the ILS approach to Runway 26R are contained within the Houston Class B airspace area.

Area B. The FAA proposes to modify Area B to the east and west of IAH. This modification would incorporate into Area B, two segments of the Class B airspace that are currently contained within Area C. Specifically, to the east of IAH, the FAA proposes to extend Area B to the east incorporating that part of Area C airspace that lies to the east on the extended ILS localizer course and downwind legs for Runway 26R, 26L, and 27, between the IAH 15 and 20 NM arcs. To the west of IAH, the FAA proposes to extend Area B to the west incorporating that part of Area C airspace that lies west on the extended ILS localizer course and downwind legs for Runway 8L, 8R, and 9, between the IAH 15 and 20 NM arcs. The effect of extending Area B as described would be to lower the floor of the Class B airspace in the affected segments from the current 3,000 feet MSL to 2,000 feet MSL. The reason for this change is to provide additional airspace needed to ensure that aircraft vectored for triple, simultaneous ILS approaches (with the required 1,000 feet vertical separation between aircraft) remain within the Houston Class B airspace area.

Area C. The FAA proposes to modify Area C to the east and west of IAH. This modification would incorporate into Area C, two segments of the Class B airspace that are currently contained within Area D. Specifically, to the east of IAH, the FAA proposes to extend Area C to the east incorporating that part of Area D airspace that lies to the east on the extended ILS localizer course and downwind legs for Runway 26R, 26L, and 27, between the IAH 20 and 30 NM arcs. To the west of IAH, the FAA proposes to extend Area C to the west incorporating that part of Area D airspace that lies to the west on the extended ILS localizer course and downwind legs for Runway 8L, 8R, and 9, between the IAH 20 and 30 NM arcs of the airport. The effect of extending Area C as described would be to lower the floor of the Class B airspace in the affected segments from the current 4,000 feet MSL to 3,000 feet MSL. The reason for this change is to provide additional airspace needed to ensure that aircraft vectored for triple, simultaneous ILS approaches (with the required 1,000 feet vertical separation between aircraft) remain within the Houston Class B airspace area. The FAA also proposes to modify Area C to the southwest of HOU by incorporating into Area C, one segment of the Class B airspace that is currently contained within Area D. Specifically, to the southwest of HOU, the FAA proposes to extend Area C to the southwest incorporating that part of Area D airspace that lies to the southwest on the extended ILS localizer course and downwind legs for Runway 4, between the IAH 15 and 20 NM arcs. The effect of extending Area C as described would be to lower the floor of the Class B airspace in the affected segment from the current 4,000 feet MSL to 3,000 feet MSL. The reason for this change is to provide additional airspace needed to ensure that aircraft vectored for the ILS Runway 4 approach remain within the Houston Class B airspace area.

Area D. The FAA proposes to modify Area D by expanding the boundaries of Area D to the southwest of HOU. This modification would add a segment to the Class B airspace. Specifically, the FAA proposes to extend Area D to the southwest of HOU incorporating airspace that lies to the southwest on the extended ILS localizer course and downwind legs for Runway 4, between the IAH 20 and 25 NM arcs. The effect of extending Area D as described would be to add a segment to the Class B airspace from 4,000 feet MSL to 10,000 feet MSL. The reason for this change is to provide additional airspace needed to ensure that aircraft vectored for the ILS Runway 4 approach remain within the Houston Class B airspace area.

Area E. The FAA is not proposing any changes to the lateral dimensions of Area E.

These modifications would improve the management of aircraft operations in the Houston terminal area, and enhance safety by extending and lowering the floor of Class B airspace to protect a high volume of instrument approaches to IAH and HOU airports. Additionally, this proposed action supports various efforts to enhance the efficiency and capacity of the National Airspace System including the National Airspace Redesign project and the FAA's Operational Evolution Plan.

The coordinates for this airspace docket are based on North American Datum 83. Class B airspace areas are published in paragraph 3000 of FAA Order 7400.9K, Airspace Designations and reporting Points, dated August 30, 2002, and effective September 16, 2002, which is incorporated by reference in 14 CFR section 71.1. The Class B airspace area listed in this document would be published subsequently in the Order.

Regulatory Evaluation Summary

Changes to Federal Regulations must undergo several economic analyses. First, Executive Order 12866 directs that each Federal agency shall propose or adopt a regulation only upon a reasoned determination that the benefits of the intended regulation justify its costs. Second, the Regulatory Flexibility Act requires agencies to analyze the economic effect of regulatory changes on small businesses and other small entities. Third, the Office of Management and Budget directs agencies to assess the effect of regulatory changes on international trade. In conducting these analyses, the FAA has determined that this proposed rule: (1) Would generate benefits that justify its circumnavigation costs and is not a “significant regulatory action” as defined in the Executive Order; (2) is not significant as defined in the Department of Transportation's Regulatory Policies and Procedures; (3) would not have a significant impact on a substantial number of small entities; (4) would not constitute a barrier to international trade; and (5) would not contain any Federal intergovernmental or private sector mandate. These analyses are summarized here in the preamble, and the full Regulatory Evaluation is in the docket.

This NPRM would modify the Houston, TX, Class B airspace. The proposed rule would reconfigure the subarea boundaries, raise the altitude ceiling in certain segments of the airspace and lower the altitude floor in certain segments.

The NPRM would generate benefits for system users and the FAA in the form of enhanced operational efficiency and simplified navigation in the Houston terminal area. These modifications would impose some costs (an additional 5 NM circumnavigation around the expanded controlled airspace) on operators of non-compliant aircraft. However, the cost of circumnavigation is considered to be small. Thus, the FAA has determined this proposed rule would be cost-beneficial.

Initial Regulatory Flexibility Determination

The Regulatory Flexibility Act of 1980 establishes “as a principle of regulatory issuance that agencies shall endeavor, consistent with the objective of the rule and of applicable statutes, to fit regulatory and informational requirements to the scale of the business, organizations, and governmental jurisdictions subject to regulation.” To achieve that principal, the Act requires agencies to solicit and consider flexible regulatory proposals and to explain the rationale for their actions. The Act covers a wide-range of small entities, including small businesses, not-for-profit organizations and small governmental jurisdictions.

Agencies must perform a review to determine whether a proposed or final rule will have a significant economic impact on a substantial number of small entities. If the determination is that it will, the agency must prepare a regulatory flexibility analysis (RFA) as described in the Act.

However, if an agency determines that a proposed or final rule is not expected to have a significant economic impact on a substantial number of small entities, section 605(b) of the 1980 Act provides that the head of the agency may so certify and an RFA is not required. The certification must include a statement providing the factual basis for this determination, and the reasoning should be clear.

This proposed rule may impose some circumnavigation costs on individuals operating in the Houston terminal area; but the proposed rule would not impose any costs on small business entities. Operators of GA aircraft are considered individuals, not small business entities and are not included when performing a regulatory flexibility analysis. Flight schools are considered small business entities. However, the FAA assumes that they provide instruction in aircraft equipped to navigate in Class B airspace given they currently provide instruction in the Houston terminal area. Therefore, these small entities should not incur any additional costs as a result of the proposed rule. Accordingly, pursuant to the Regulatory Flexibility Act, 5 U.S.C. 605(b), the Federal Aviation Administration certifies this rule would not have a significant economic impact on a substantial number of small entities. The FAA solicits comments from affected entities with respect to this finding and determination.

International Trade Impact Assessment

The Trade Agreement Act of 1979 prohibits Federal agencies from engaging in any standards or related activities that create unnecessary obstacles to the foreign commerce of the United States. Legitimate domestic objectives, such as safety, are not considered unnecessary obstacles. The statute also requires consideration of international standards and where appropriate, that they be the basis for U.S. standards.

The proposed rule is not expected to affect trade opportunities for U.S. firms doing business overseas or for foreign firms doing business in the United States.

Unfunded Mandates Assessment

Title II of the Unfunded Mandates Reform Act of 1995 (the Act), enacted as Public Law 0104-4 on March 22, 1995, requires each Federal agency, to the extent permitted by law, to prepare a written assessment of the effects of any Federal mandate in a proposed or final agency rule that may result in the expenditure of $100 million or more (when adjusted annually for inflation) in any one year by State, local, and tribal governments in the aggregate, or by the private sector. Section 204(a) of the Act, 2 U.S.C. 1534(a), requires the Federal agency to develop an effective process to permit timely input by elected officers (or their designees) of State, local, and tribal governments on a proposed “significant intergovernmental mandate.” A “significant intergovernmental mandate” under the Act is any provision in a Federal agency regulation that would impose an enforceable duty upon State, local, and tribal governments in the aggregate of $100 million (adjusted annually for inflation) in any one year. Section 203 of the Act, 2 U.S.C. 1533, which supplements section 204(a), provides that, before establishing any regulatory requirements that might significantly or uniquely affect small governments, the agency shall have developed a plan, which, among other things, must provide for notice to potentially affected small governments, if any, and for a meaningful and timely opportunity for these small governments to provide input in the development of regulatory proposals.

This proposed rule does not contain any Federal intergovernmental or private sector mandates. Therefore, the requirements of Title II of the Unfunded Mandates Reform Act of 1995 do not apply.

Paperwork Reduction Act

In accordance with the Paperwork Reduction Act of 1980 (Pub. L. 96-511), there are no requirements for information collection associated with this proposed rule.

Conclusion

In view of the minimal or zero cost of compliance of the proposed rule and the enhancements to operational efficiency that do not reduce aviation safety, the FAA has determined that the proposed rule would be cost-beneficial.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES, AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated August 30, 2002, and effective September 16, 2002, is amended as follows:

Paragraph 3000—Subpart B-Class B Airspace

* * * * *

ASW TX B Houston, TX (Revised)

George Bush Intercontinental Airport (IAH) (Primary Airport)

(Lat. 29°58′50″ N., long. 95°20′23″ W.)

William P. Hobby Airport (HOU) (Secondary Airport)

(Lat. 29°38′44″ N., long. 95°16′44″ W.)

Ellington Field (EFD)

(Lat. 29°36′27″ N., long. 95°09′32″ W.)

Humble VORTAC (IAH)

(Lat. 29°57′25″ N., long. 95°20′45″ W.)

Point of Origin

(Lat. 29°39′01″ N., long. 95°16′45″ W.)

Boundaries

Area A. That airspace extending upward from the surface to and including 10,000 feet MSL bounded by a line beginning at the intersection of the Humble VORTAC 8-mile DME arc and the 090° radial; thence clockwise along the Humble VORTAC 8-mile DME arc to the Humble VORTAC 048° radial; thence east along the Humble VORTAC 048° radial to the 10-mile DME arc of Humble VORTAC; thence clockwise along the Humble VORTAC 10-mile DME arc to the Humble VORTAC 090° radial; thence west to the point of beginning; and that airspace bounded by a line beginning at lat. 29°45′37″ N., long. 95°21′58″ W.; to lat. 29°45′46″ N., long. 95°11′47″ W.; thence clockwise along the 8-mile arc from the Point of Origin to intercept the 056° bearing from the point of origin; thence southwest along the 056° bearing to the 5.1-NM fix from the point of origin, thence direct to the point of origin 131° bearing/5.8-mile fix from the point of origin; thence southeast along the 131° bearing from the point of origin to intercept the 7-mile arc from the point of origin; thence clockwise on the 7-mile arc to the 156° bearing from the point of origin; thence north along the 156° bearing to the 6-mile fix from the point of origin; thence clockwise along the 6-mile arc to the 211° bearing from the point of origin; thence south along the 211° bearing from the point of origin to the 8-mile arc from the point of origin; thence clockwise to the point of beginning.

Area B. That airspace extending upward from 2,000 feet MSL to and including 10,000 feet MSL bounded by a line beginning at the intersection of State Highway 59 (SH 59) and the 15-mile arc from the point of origin; thence counterclockwise along the 15-mile arc to State Road 6 (SR 6); thence southeast along SR 6 to the intersection of SR 6 and Farm Road 521 (FR 521); thence south along FR 521 to the intersection of FR 521 and the 15-mile arc from the point of origin; thence counterclockwise along the 15-mile arc to the 211° bearing from the point of origin; thence northeast along the 211° bearing to the 10-mile arc from the point of origin; thence counterclockwise along the 10-mile arc to the 156° bearing from the point of origin; thence southeast along the 156° bearing to the 15-mile arc from the point of origin; thence counterclockwise on the 15-mile arc to the intersection of the 15-mile arc and Interstate 10 (I-10); thence east on I-10 to the intersection of I-10 and the Humble VORTAC 20-mile DME arc; thence counterclockwise on the Humble VORTAC 20-mile DME arc to the intersection of the Humble VORTAC 20-mile DME arc and the Humble VORTAC 058° radial; thence west to the intersection of the Humble VORTAC 15-mile DME arc and Humble VORTAC 048° radial; thence counterclockwise along the Humble VORTAC 15-mile DME arc to the intersection of the Humble VORTAC 15-mile DME arc and the Humble VORTAC 303° radial; thence west to the intersection of the Humble VORTAC 20-mile DME arc and the Humble VORTAC 293° radial; thence counterclockwise on the Humble VORTAC 20-mile DME arc to the intersection of the Humble VORTAC 20-mile DME arc and the Humble VORTAC 249° radial; thence east to the intersection of the Humble VORTAC 242° radial and the Humble VORTAC 15-mile DME arc; thence counterclockwise along the Humble VORTAC 15-mile DME arc to lat. 29°43′40″ N., long. 95°27′40″ W.; thence southwest along SH 59 to the point of beginning, excluding Area A.

Area C. That airspace extending upward from 3,000 feet MSL to and including 10,000 feet MSL bounded by a line beginning at the intersection of SH 59 and the Humble VORTAC 20-mile DME arc; thence clockwise along the Humble VORTAC 20-mile DME arc to the intersection of the Humble VORTAC 20-mile DME arc and the Humble VORTAC 249° radial; thence west to the intersection of the Humble VORTAC 30-mile DME arc and the Humble VORTAC 254° radial; thence clockwise on the Humble VORTAC 30-mile DME arc to the intersection of the Humble VORTAC 30-mile DME arc and the Humble VORTAC 283° radial; thence east to the intersection of the Humble VORTAC 20-mile DME arc and the Humble VORTAC 293° radial; thence clockwise on the Humble VORTAC 20-mile DME arc to the intersection of the Humble VORTAC 20-mile DME arc and the Humble VORTAC 058° radial; thence east to the intersection of the Humble VORTAC 30-mile DME arc and the Humble VORTAC 067° radial; thence clockwise on the Humble VORTAC 30-mile DME arc to the intersection of the Humble VORTAC 30-mile DME arc and the Humble VORTAC 096° radial; thence west to the intersection of the Humble VORTAC 20-mile DME arc and the Humble VORTAC 101° radial; thence counterclockwise on the Humble VORTAC 20-mile DME arc to the intersection of the Humble VORTAC 20-mile DME arc and the Humble VORTAC 058° radial; thence west to the intersection of the Humble VORTAC 15-mile DME arc and the Humble VORTAC 048° radial; thence counterclockwise on the Humble VORTAC 15-mile DME arc to the intersection of the Humble VORTAC 15-mile DME arc and the Humble VORTAC 303° radial; thence west to the intersection of the Humble VORTAC 20-mile DME arc and the Humble VORTAC 293° radial; thence counterclockwise on the Humble VORTAC 20-mile DME arc to the intersection of the Humble VORTAC 20-mile DME arc and the Humble VORTAC 249° radial; thence east to the intersection of the Humble VORTAC 15-mile DME arc and the Humble VORTAC 242° radial; thence counterclockwise along the Humble VORTAC 15-mile DME arc to lat. 29°43′40″ N., long. 95°27′40″ W.; thence southwest along SH 59 to the point of beginning; and that airspace beginning at the intersection of the 15-mile arc and the 211° bearing from the point of origin; thence clockwise along the 15-mile arc to the intersection of the 15-mile arc and the 254° bearing from the point of origin; thence southwest to the intersection of the 20-mile arc and the 248° bearing from the point of origin; thence counterclockwise along the 20-mile arc from the point of origin to the intersection of the 20-mile arc and the 211° bearing from the point of origin; thence northeast along the 211° bearing from the point of origin to the intersection of the 10-mile arc and the 211° bearing from the point of origin; thence counterclockwise along the 10-mile arc to the intersection of the 10-mile arc and the 156° bearing from the point of origin; thence southeast along the 156° bearing to the 15-mile arc and 156° bearing from the point of origin; thence clockwise along the 15-mile arc from the point of origin to the point of beginning.

Area D. That airspace extending upward from 4,000 feet MSL to and including 10,000 feet MSL bounded by a line beginning at the intersection of SH 59 and the Humble VORTAC 30-mile DME arc; thence clockwise along the Humble VORTAC 30-mile DME arc to the intersection of the Humble VORTAC 30-mile DME arc and the Humble VORTAC 254° radial; thence east to the intersection of the Humble VORTAC 20-mile DME arc and the Humble VORTAC 249° radial; thence counterclockwise on the Humble VORTAC 20-mile DME arc to the intersection of the Humble VORTAC 20-mile DME arc and SH 59; thence southwest to and along SH 59 to the intersection of the 15-mile arc from the point of origin and SH 59; thence counterclockwise on the 15-mile arc from the point of origin to the intersection of the 15-mile arc from the point of origin and the 254° bearing from the point of origin; thence southwest to the intersection of the 20-mile arc from the point of origin and the 248° bearing from the point of origin; thence clockwise on the 20-mile arc from the point of origin to the intersection of the 20-mile arc from the point of origin and SH 59; thence southwest along SH 59 to the point of beginning; and that airspace beginning at the intersection of the 211° bearing and the 20-mile arc from the point of origin; thence northeast to the intersection of the 15-mile arc from the point of origin and the 211° bearing from the point of origin; thence counterclockwise on the 15-mile arc from the point of origin to the intersection of the 15-mile arc from the point of origin and I-10; thence east along I-10 to the intersection of the Humble VORTAC 20-mile DME arc and I-10; thence counterclockwise on the Humble VORTAC 20-mile DME arc to the intersection of the Humble VORTAC 20-mile DME arc and the Humble VORTAC 101° radial; thence east to the intersection of the Humble VORTAC 30-mile DME arc and the Humble VORTAC 096° radial; thence clockwise on the Humble VORTAC 30-mile DME arc until the intersection of the Humble VORTAC 30-mile DME arc and the 20-mile arc from the point of origin; thence clockwise on the 20-mile arc from the point of origin to the intersection of the 20-mile arc from the point of origin and the 248° bearing from the point of origin; thence southwest to the intersection of the 25-mile arc from the point of origin and the 245° bearing from the point of origin; thence counterclockwise on the 25-mile arc from the point of origin to the intersection of the 25-mile arc from the point of origin and the 211° bearing from the point of origin; thence northeast on the 211° bearing from the point of origin to the point of beginning; and that airspace beginning at the intersection of the Humble VORTAC 20-mile DME arc and the Humble VORTAC 293° radial; thence west to the intersection of the Humble VORTAC 30-mile DME arc and the Humble VORTAC 283° radial; thence clockwise along the Humble VORTAC 30-mile DME arc to the intersection of the Humble VORTAC 30-mile DME arc and the Humble VORTAC 067° radial; thence west to the intersection of the Humble VORTAC 20-mile DME arc and the Humble VORTAC 058° radial; thence counterclockwise along the Humble VORTAC 20-mile DME arc to the point of beginning.

Area E. That airspace extending upward from 2,500 feet MSL to and including 10,000 feet MSL bounded by a line beginning at the intersection of the 15-mile arc from the point of origin and SR 6; thence southeast along SR 6 to the intersection of SR 6 and FR 521; thence south along FR 521 to the intersection of FR 521 and the 15-mile arc from the point of origin; thence clockwise along the 15-mile arc from the point of origin to the point of the beginning.

* * * * *

Issued in Washington, DC, on April 10, 2003.
Reginald C. Matthews,
Manager, Airspace and Rules Division.

[FR Doc. 03-9504 Filed 4-16-03; 8:45 am]

BILLING CODE 4910-13-P